DEPARTMENT OF ENERGY

Federal Energy Regulatory Commission

Combined Notice of Filings

Take notice that the Commission has received the following Natural Gas Pipeline Rate and Refund Report filings:

Docket Number: PR20-54-000.

Applicants: Southern California Gas Company.

Description: Tariff filing per 284.123(b), (e)+(g): Offshore_Delivery_Service_Rate_Revision_April_2020 to be effective 4/1/2020.

Filed Date: 4/29/2020.

Accession Number: 202004295174.

Comments Due: 5 p.m. ET 5/20/2020.

284.123(g) Protests Due: 5 p.m. ET 6/29/2020.

Docket Numbers: RP12-609-000.

Applicants: Texas Gas Transmission, LLC.

Description: Report Filing: 2019 Operational Purchases and Sales Report.

Filed Date: 5/1/20.

Accession Number: 20200501-5082.

Comments Due: 5 p.m. ET 5/13/20.

Docket Numbers: RP13-212-000.

Applicants: Boardwalk Storage Company, LLC.

Description: Report Filing: 2019 Operational Purchases and Sales Report.

Filed Date: 5/1/20.

Accession Number: 20200501-5080.

Comments Due: 5 p.m. ET 5/13/20.

Docket Numbers: RP16-864-002.

Applicants: Columbia Gas Transmission, LLC.

Description: Compliance filing Revenue Sharing Report 2020.

Filed Date: 5/1/20.

Accession Number: 20200501-5032.

Comments Due: 5 p.m. ET 5/13/20.

Docket Numbers: RP20-846-000.

Applicants: Northern Natural Gas Company.

Description: § 4(d) Rate Filing: 20200501 Winter PRA to be effective 11/1/2020.

Filed Date: 5/1/20.

Accession Number: 20200501-5048.

Comments Due: 5 p.m. ET 5/13/20.

Docket Numbers: RP20-847-000.

Applicants: Gulf South Pipeline Company, LLC.

Description: § 4(d) Rate Filing: Cap Rel Neg Rate Agmt (Constellation 52749 to Exelon 52794) to be effective 5/1/2020.

Filed Date: 5/1/20.

Accession Number: 20200501-5049.

Comments Due: 5 p.m. ET 5/13/20.

Docket Numbers: RP20-848-000.

Applicants: Gulf South Pipeline Company, LLC.

Description: § 4(d) Rate Filing: Cap Rel Neg Rate Agmt (Southern 49811 to Texla 52798) to be effective 5/1/2020.

Filed Date: 5/1/20.

Accession Number: 20200501-5056.

Comments Due: 5 p.m. ET 5/13/20.

Docket Numbers: RP20-849-000.

Applicants: Southeast Supply Header, LLC.

Description: Compliance filing 2020 SESH TUP/SBA Annual Filing.

Filed Date: 5/1/20.

Accession Number: 20200501-5063.

Comments Due: 5 p.m. ET 5/13/20.

Docket Numbers: RP20-850-000.

Applicants: Equitrans, L.P.

Description: § 4(d) Rate Filing: Negotiated Rate Capacity Release Agreements—5/1/2020 to be effective 5/1/2020.

Filed Date: 5/1/20.

Accession Number: 20200501-5068.

Comments Due: 5 p.m. ET 5/13/20.

Docket Numbers: RP20-852-000.

Applicants: Trunkline Gas Company, LLC.

Description: § 4(d) Rate Filing: Contracting Process Filing to be effective 6/1/2020.

Filed Date: 5/1/20.

Accession Number: 20200501-5223.

Comments Due: 5 p.m. ET 5/13/20.

Docket Numbers: RP20-853-000.

Applicants: Sabal Trail Transmission, LLC.

Description: § 4(d) Rate Filing: 2020 TUP/SBA Annual Filing to be effective 6/1/2020.

Filed Date: 5/1/20.

Accession Number: 20200501-5249.

Comments Due: 5 p.m. ET 5/13/20.

Docket Numbers: RP20-854-000.

Applicants: Gulfstream Natural Gas System, L.L.C.

Description: § 4(d) Rate Filing: 2020 GNGS TUP/SBA Filing to be effective 6/1/2020.

Filed Date: 5/1/20.

Accession Number: 20200501-5258.

Comments Due: 5 p.m. ET 5/13/20.

Docket Numbers: RP20-855-000.

Applicants: Dominion Energy Transmission, Inc.

Description: § 4(d) Rate Filing: DETI—May 1, 2020 Negotiated Rates and Nonconforming Service Agreements to be effective 6/1/2020.

Filed Date: 5/1/20.

Accession Number: 20200501-5266.

Comments Due: 5 p.m. ET 5/13/20.

Docket Numbers: RP20-856-000.

Applicants: Alliance Pipeline L.P.

Description: § 4(d) Rate Filing: APL Term Provisions and Extensions to be effective 6/1/2020.

Filed Date: 5/1/20.

Accession Number: 20200501-5287.

Comments Due: 5 p.m. ET 5/13/20.

Docket Numbers: RP20-857-000.

Applicants: Columbia Gas Transmission, LLC.

Description: § 4(d) Rate Filing: Reservation Charge Credits to be effective 6/1/2020.

Filed Date: 5/1/20.

Accession Number: 20200501-5333.

Comments Due: 5 p.m. ET 5/13/20.

Docket Numbers: RP20-858-000.

Applicants: Columbia Gulf Transmission, LLC.

Description: § 4(d) Rate Filing: Reservation Charge Credits to be effective 6/1/2020.

Filed Date: 5/1/20.

Accession Number: 20200501-5334.

Comments Due: 5 p.m. ET 5/13/20.

Docket Numbers: RP20-859-000.

Applicants: Northern Border Pipeline Company.

Description: § 4(d) Rate Filing: BTU Filing to be effective 6/1/2020.

Filed Date: 5/1/20.

Accession Number: 20200501-5340.

Comments Due: 5 p.m. ET 5/13/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 4, 2020.
Nathaniel J. Davis, Sr.,
Deputy Secretary.

[FR Doc. 2020-09867 Filed 5-7-20; 8:45 am]

BILLING CODE 6717-01-P